DEPARTMENT OF HEALTH AND HUMAN SERVICES

National Institutes of Health

National Institute on Alcohol Abuse and Alcoholism; Notice of Meeting

Pursuant to section 10(d) of the Federal Advisory Committee Act, as amended (5 U.S.C. Appendix 2), notice is hereby given of the National Advisory Council on Alcohol Abuse and Alcoholism.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Advisory Council on Alcohol Abuse and Alcoholism.

Date: February 1-2, 2006.

Closed: February 1, 2006, 5:30 p.m. to 7:30 p.m.

Agenda: To review and evaluate grant applications and/or proposals.

Place: Fishers Building Conference Center, Fishers Lane Building, 5635 Fishers Lane, Terrace Level, Rockville, MD 20832.

Closed: February 2, 2006, 8 a.m. to 9:30 a.m.

Agenda: To review and evaluate the Board of Scientific Counselor's Report.

Place: Fishers Building Conference Center, Fishers Lane Building, 5635 Fishers Lane, Terrace Level, Rockville, MD 20832.

Open: February 2, 2006, 9:30 a.m. to 2:30 p.m.

Agenda: Program reports and presentations.

Place: Fishers Building Conference Center, Fishers Lane Building, 5635 Fishers Lane, Terrace Level, Rockville, MD 20832.

Contact Person: Karen P. Peterson, PhD, Executive Secretary NIAAA Council, National Institute of Alcohol Abuse and Alcoholism, National Institutes of Health, Bethesda, MD 20892-7003, (301) 451-3883, kp177z@nih.gov.

Any member of the public interested in presenting oral comments to the committee may notify the Contact Person listed on this notice at least 10 days in advance of the meeting. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

Information is also available on the Institute's/Center's home page: silk.nih.gov/silk/niaaa1/about/roster.htm, where an agenda and any additional information for the meeting will be posted when available.

(Catalogue of Federal Domestic Assistance Program Nos. 93.271, Alcohol Research Career Development Awards for Scientists and Clinicians; 93.272, Alcohol National Research Service Awards for Research Training; 93.273, Alcohol Research Programs; 93.891, Alcohol Research Center Grants, National Institutes of Health, HHS)

Dated: December 19, 2005.
Anna Snouffer,
Acting Director, Office of Federal Advisory Committee Policy.

[FR Doc. 05-24650 Filed 12-29-05; 8:45 am]

BILLING CODE 4140-01-M